ENVIRONMENTAL PROTECTION AGENCY

[ER-FRL-6648-7]

Environmental Impact Statements; Notice of Availability

Responsible Agency: Office of Federal Activities, General Information (202) 564-7167 or http://www.epa.gov/compliance/nepa/.

Weekly receipt of Environmental Impact Statements

Filed February 23, 2004 Through February 27, 2004

Pursuant to 40 CFR 1506.9.

EIS No. 040072, Final EIS, AFS, WY, Blackhall-McAnulty Analysis Area, Proposal to Reduce the Spread of Dwarf Mistletoe and Mountain Pine Beetle in Lodgepole Pine Stands, Brush Creek/ Hayden Ranger District, Medicine Bow-Routt National Forests and Thunder Basin National Grassland, Carbon County, WY, Wait Period Ends: March 29, 2004, Contact: Terry Delay (307) 326-2518. This document is available on the Internet at: http://www.fs.fed.us/r2/mbr.

EIS No. 040073, Draft EIS, AFS, UT, Trout Slope West Timber Project, Harvesting Timber, Ashley National Forest, Vernal Ranger District, Uintah County, UT, Comment Period Ends: April 12, 2004, Contact: Jeff Underhill (435) 781-5174. This document is available on the Internet at: http://www.fs.fed.us/r4/ashley.

EIS No. 040074, Final EIS, HUD, WA, Tacoma Housing Authority (THA) Hope VI Salishan Redevelopment Project, Revitalize the Community Neighborhood, Funding, NHPA Section 106, NPDES Permit, City of Tacoma, WA, Wait Period Ends: March 29, 2004, Contact: Karie Hayashi (253) 591-5387. This document is available on the Internet at: http//govme.cityoftacoma.org/govme/panelBeta/ PermitInfo/LandUse/landUse.aspx.

EIS No. 040075, Final EIS, AFS, CA, Silver Pearl Land Exchange Project, Proposal to Exchange 2,153 Acres of National Forest System (NFS) Land for up to 3,963 Acres of Sierra Pacific Industries (SPI) Land within the boundary of Eldorado National Forest, Eldorado and Placer Counties, CA, Wait Period Ends: March 29, 2004, Contact: Elaine K. Gee (530) 333-4312.

EIS No. 040076, Draft EIS, FHW, KY, IN, Interstate 69 National Corridor, Connecting Henderson, Kentucky to Evansville, Indiana, NPDES, and U.S. Army COE Section 10 and 404 Permits, Transportation Equity Act for the 21st, KY and IN, Comment Period Ends: April 19, 2004, Contact: Anthony DeSimone (317) 226-5307. This document is available on the Internet at: http://www.i69in-ky.com.

EIS No. 040077, Final EIS, AFS, AZ, Rodeo-Chediski Fire Salvage Project, Timber Harvest of Merchantable Dead Trees as Sawtimber and Products other than Lumber (POL), Implementation, Apache-Sitgreaves and Tonto National Forest, Apache, Coconino and Navajo Counties, AZ, Wait Period Ends: March 29, 2004, Contact: Jimmy E. Hibbetts (928) 333-6284.

EIS No. 040078, Draft EIS, AFS, ID, WA, Chips Ahoy Project, Proposes Vegetation, Wildlife Habitat, Recreation and Aquatic Improvement Treatments, Idaho Panhandle National Forests, Priest Lake Ranger District, Bonner County, ID and Pend Orielle County, WA, Comment Period Ends: April 12, 2004, Contact: David DelSordo (208) 443-6809. This document is available on the Internet at: http://www.fs.fed.us/ipnf/eco/manage/nepa/index.htm1.

EIS No. 040079, Final EIS, TVA, TN, KY, MS, VA, AL, GA, NC, Programmatic EIS—Tennessee Valley Authority Reservoir Operations Study, Implementation, TN, AL, KY, GA, MS, NC and VA, Wait Period Ends: April 12, 2004, Contact: Linda Shipp (865) 632-3440.

EIS No. 040080, Draft EIS, FHW, AR, Conway Western Arterial Loop, Construct from South and West sides of Conway, Faulkner County, AR, Comment Period Ends: April 12, 2004, Contact: Randal J. Looney (501) 324-6430.

EIS No. 040081, Draft EIS, NOA, WA, CA, OR, Programmatic EIS—Pacific Coast Groundfish Bycatch Management, To Establish the Policies and Program Direction to Minimize Bycatch in the West Coast Groundfish Fisheries, Magnuson-Stevens Act, WA, OR and CA, Comment Period Ends: April 27, 2004, Contact: D. Robert Lohn (206) 526-6150. This document is available on the Internet at: http://www.nwr.noaa.gov/1sustfsh/groundfish/eis_efh/pseis/.

EIS No. 040082, Draft EIS, AFS, ND, Equity Oil Company Federal 32-4 and 23-21 Oil and Gas Wells Surface Use Plan of Operation (SUP0), Implementation, Located in the Bell Lake Inventoried Roadless Area (IRA), Dakota Prairie Grasslands, Medora Ranger District, Golden Valley County, ND, Comment Period Ends: April 12, 2004, Contact: Jeff Adams (701) 225-5151.

EIS No. 040083, Final EIS, FHW, NC, Western Wake Freeway, Transportation Improvements from NC-55 at NC-1172 (Old Smithfield Road) to NC-55 near NC-1630 (Alston Avenue), Funding and COE 404 Permit, Wake County, NC, Wait Period Ends: March 29, 2004, Contact: John F. Sullivan (919) 856-4346.

EIS No. 040084, Draft EIS, AFS, MT, West Troy Project, Proposes Timber Harvesting, Natural Fuels Reduction Treatments, Pre-Commercial Thinning, and Watershed Rehabilitation (Decommission) Work, Kootenai National Forest, Three River Ranger District, Lincoln County, MT, Comment Period Ends: April 12, 2004, Contact: Michael L. Balboni (406) 295-7410.

EIS No. 040085, Final EIS, FRC, CO, KS, CO, KS Cheyenne Plains Pipeline Project, Natural Gas Transmission Pipeline, Construction and Operation, NPDES Permit and U.S. Army COE Section 404 Permit Issuance, several counties, CO and several counties, KS, Wait Period Ends: March 29, 2004, Contact: Thomas Russo (866) 208-3372.

EIS No. 040086, Draft EIS, DOE, CA, Site-wide Continued Operation of Lawrence Livermore National Laboratory (LLNL) and Stockpile Stewardship and Management, Implementation, Alameda and San Joaquin Counties, CA, Comment Period Ends: May 27, 2004, Contact: Thomas Grim (925) 422-0704.

EIS No. 040087, Draft Supplement, DOE, TN, GA, TX, SC, MO, Programmatic EIS—Site-wide Continued Operation of Lawrence Livermore National Laboratory (LLNL) and Supplemental Stockpile Stewardship and Management Plan for use of Proposed Materials at the National Ignition Facility (NIF), Implementation, Alamenda and San Joaquin Counties, CA, Comment Period Ends: May 27, 2004, Contact: Thomas Grim (925) 422-0704.

Amended Notices

EIS No. 000213, Draft EIS, IBR, AZ, Central Arizona Project (CAP), Allocation of Water Supply and Long-Term Contract Execution, Maricopa, Pinal and Pima Counties, AZ, Comment Period Ends: April 26, 2004, Contact: Sandra Eto (602) 216-3857. Published FR-06-30-00—Review Period Reopened, From 08-25-2000 to 04-26-2004. Draft EIS is Recirculated. This document is available on the Internet at: http://www.usbr.gov/lc/phoenix/.

Dated: February 24, 2004.
Ken Mittelholtz,
Environmental Protection Specialist, Office of Federal Activities.

[FR Doc. 04-4388 Filed 2-26-04; 8:45 am]

BILLING CODE 6560-50-P